DEPARTMENT OF COMMERCE

International Trade Administration

[A-469-822]

Methionine From Spain: Preliminary Results of Antidumping Duty Administrative Review; 2021-2022

AGENCY: Enforcement and Compliance, International Trade Administration, Department of Commerce.

SUMMARY: The U.S. Department of Commerce (Commerce) preliminarily finds that Adisseo España S.A. (Adisseo España) made sales of methionine from Spain at less than normal value (NV) during the period of review (POR) March 4, 2021, through August 31, 2022. We invite interested parties to comment on these preliminary results.

DATES: Applicable October 6, 2023.

FOR FURTHER INFORMATION CONTACT: Elizabeth Bremer, AD/CVD Operations, Office IV, Enforcement and Compliance, International Trade Administration, U.S. Department of Commerce, 1401 Constitution Avenue NW, Washington, DC 20230; telephone: (202) 482-4987.

SUPPLEMENTARY INFORMATION:

Background

On September 1, 2022, Commerce published in the Federal Register a notice of opportunity ¹ to request an administrative review of the antidumping duty (AD) order on methionine from Spain.² On November 3, 2022, based on a timely request for an administrative review,³ Commerce initiated an administrative review with respect to Adisseo España.⁴

¹ See Antidumping or Countervailing Duty Order, Finding, or Suspended Investigation; Opportunity To Request Administrative Review and Join Annual Inquiry Service List, 87 FR 53719, 53720 (September 1, 2022).

² See Methionine from Japan and Spain: Antidumping Duty Orders, 86 FR 51119 (September 14, 2021) (Order).

³ See Adisseo España's Letter, “Adisseo España S.A. and Adisseo USA Inc.'s Request for Administrative Review,” dated September 30, 2022.

⁴ See Initiation of Antidumping and Countervailing Duty Administrative Reviews, 87 FR 66275, 66278 (November 3, 2022), and amended by Initiation of Antidumping and Countervailing Duty Administrative Reviews, 88 FR 50, 53 n.5 (January 3, 2023).

On May 22, 2023, in accordance with section 751(a)(3)(A) of the Tariff Act of 1930, as amended (the Act), and 19 CFR 351.213(h)(2), Commerce extended the deadline for completing these preliminary results to September 29, 2023.⁵ For a complete description of the events that followed the initiation of this review, see the Preliminary Decision Memorandum.⁶

⁵ See Memorandum, “Methionine from Spain: Extension of Deadline for the Preliminary Results of the 2021-2022 Antidumping Duty Administrative Review,” dated May 22, 2023.

⁶ See Memorandum, “Decision Memorandum for the Preliminary Results of the Antidumping Duty Administrative Review; 2021-2022: Methionine from Spain,” dated concurrently with, and hereby adopted by, this notice (Preliminary Decision Memorandum).

A list of the topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The merchandise covered by the scope of the Order is methionine from Spain. A complete description of the scope of the Order is contained in the Preliminary Decision Memorandum.⁷

⁷ Id.

Methodology

Commerce is conducting this review in accordance with section 751(a) of the Act. Constructed export price is calculated in accordance with section 772 of the Act and NV is calculated in accordance with section 773 of the Act. For a full description of the methodology underlying these preliminary results, see the Preliminary Decision Memorandum.

Preliminary Results of Review

Commerce preliminarily determines that the following weighted-average dumping margin exists for the period March 4, 2021, through August 31, 2022:

Producer or exporter | Weighted- average dumping margin (percent)
Adisseo España S.A | 35.59

Verification

As provided in section 782(i)(3) of the Act, Commerce intends to verify certain information reported by Adisseo España prior to issuing its final results.

Disclosure and Public Comment

Commerce will disclose calculations performed in connection with these preliminary results to interested parties within five days of the date of publication of this notice, in accordance with 19 CFR 351.224(b).

Interested parties may submit case briefs or other written comments no later than seven days after the date on which the last verification report is issued in this administrative review.⁸ Rebuttal briefs, limited to issues raised in the case briefs, may be filed no later than seven days after the date for filing case briefs.⁹ Parties who submit case or rebuttal briefs in this proceeding are encouraged to submit with each argument: (1) a statement of the issue; (2) a brief summary of the argument; and (3) a table of authorities.

⁸ See 19 CFR 351.309(c)(1)(ii).

⁹ See 19 CFR 351.309(d); see also See Temporary Rule Modifying AD/CVD Service Requirements Due to COVID-19; Extension of Effective Period, 85 FR 41363 (July 10, 2020) (Temporary Rule).

Pursuant to 19 CFR 351.310(c), interested parties who wish to request a hearing, or to participate if one is requested, must submit a written request to the Assistant Secretary for Enforcement and Compliance, within 30 days of the date of publication of this notice. Requests should contain: (1) the party's name, address, and telephone number; (2) the number of participants; and (3) a list of issues to be discussed. Issues raised in the hearing will be limited to those raised in the respective case and rebuttal briefs. An electronically-filed hearing request must be received successfully in its entirety via ACCESS by 5:00 p.m. Eastern Time on the established deadline. If a request for a hearing is made, Commerce intends to hold the hearing at a date and time to be determined.¹⁰ Parties should confirm the date, time, and location of the hearing two days before the scheduled date.

¹⁰ See 19 CFR 351.310(d).

All submissions should be filed using ACCESS ¹¹ and must be served on interested parties.¹² Note that Commerce has temporarily modified certain of its requirements for serving documents containing business proprietary information, until further notice.¹³

¹¹ See 19 CFR 351.309(c)(2) and (d)(2); see also 19 CFR 351.303 (for general filing requirements).

¹² See 19 CFR 351.303(f).

¹³ See Temporary Rule.

Final Results of Review

Commerce intends to issue the final results of this administrative review, which will include the results of our analysis of all issues raised in the case and rebuttal briefs, within 120 days of publication of these preliminary results in the Federal Register, pursuant to section 751(a)(3)(A) of the Act, unless extended.

Assessment Rates

Upon issuing the final results of this review, Commerce shall determine, and U.S. Customs and Border Protection (CBP) shall assess, antidumping duties on all appropriate entries covered by this review.¹⁴ If the weighted-average dumping margin for Adisseo España is not zero or de minimis (i.e., less than 0.5 percent) in the final results of this review, we will calculate importer-specific ad valorem assessment rates for the merchandise based on the ratio of the total amount of dumping calculated for the examined sales made during the POR to each importer and the total entered value of those same sales, in accordance with 19 CFR 351.212(b)(1). Where either the respondent's weighted-average dumping margin or an importer-specific rate is zero or de minimis within the meaning of 19 CFR 351.106(c)(1), we will instruct CBP to liquidate the appropriate entries without regard to antidumping duties.¹⁵

¹⁴ See 19 CFR 351.212(b)(1).

¹⁵ See 19 CFR 351.106(c)(2).

In accordance with Commerce's “automatic assessment” practice, for entries of subject merchandise during the POR produced by Adisseo España for which the producer did not know its merchandise was destined for the United States, we will instruct CBP to liquidate those entries at the all-others rate, i.e., 37.53 percent determined in the less-than-fair-value (LTFV) investigation,¹⁶ if there is no rate for the intermediate company (or companies) involved in the transaction.¹⁷

¹⁶ See Order, 86 FR at 51120.

¹⁷ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of this administrative review, as provided by section 751(a)(2)(C) of the Act: (1) the cash deposit rate for Adisseo España will be equal to the weighted-average dumping margin established in the final results of this administrative review, except if the rate is less than 0.50 percent and, therefore, de minimis within the meaning of 19 CFR 351.106(c)(1), in which case the cash deposit rate will be zero; (2) for previously reviewed or investigated companies not listed above, the cash deposit rate will continue to be the company-specific rate published for the most recently completed segment of this proceeding in which the company participated; (3) if the exporter is not a firm covered in this review, a prior review, or in the LTFV investigation but the producer is, the cash deposit rate will be the rate established for the most recently completed segment of this proceeding for the producer of the merchandise; and (4) the cash deposit rate for all other producers or exporters will continue to be the all-others rate of 37.53 percent, established in the LTFV investigation of this proceeding.¹⁸

¹⁸ See Order, 86 FR at 51120.

These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h)(2) and 351.221(b)(4).

Dated: September 29, 2023.
Lisa. W. Wang,
Assistant Secretary for Enforcement and Compliance.

Appendix

List of Topics Discussed in the Preliminary Decision Memorandum

I. Summary

II. Background

III. Scope of the Order

IV. Discussion of the Methodology

V. Currency Conversion

VI. Recommendation

[FR Doc. 2023-22237 Filed 10-5-23; 8:45 am]

BILLING CODE 3510-DS-P